DEPARTMENT OF HEALTH AND HUMAN SERVICES

Food and Drug Administration

[Docket Nos. FDA-2014-N-1048; FDA-2012-N-0386; FDA-2019-N-0430; FDA-2019-N-5553; FDA-2021-N-0555; FDA-2013-N-0242; and FDA-2019-N-1517]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Medical Devices; Humanitarian Use Devices | 0910-0332 | 10/31/2025
Tobacco Product Establishment Registration and Submission of Certain Health Information | 0910-0650 | 10/31/2025
Generic Clearance for Quick Turnaround Testing of Communication Effectiveness | 0910-0876 | 10/31/2025
Right to Try Act: Reporting Requirements | 0910-0893 | 10/31/2025
Medical Device Labeling Regulations | 0910-0485 | 11/30/2025
Current Good Manufacturing Practices for Positron Emission Tomography (PET) Drugs | 0910-0667 | 11/30/2025
Abbreviated New Animal Drug Applications | 0910-0669 | 11/30/2025

Dated: December 12, 2022.
Lauren K. Roth,
Associate Commissioner for Policy.

[FR Doc. 2022-27192 Filed 12-14-22; 8:45 am]

BILLING CODE 4164-01-P